DEPARTMENT OF ENERGY

Federal Energy Regulatory Commission

[Docket Nos. PR08-28-000; PR08-28-001]

Calpine Texas Pipeline, L.P.; Notice of Offer of Settlement and Notice of Shortened Comment Period

December 17, 2008.

Take notice that on December 10, 2008, Calpine Texas Pipeline, L.P. filed a Stipulation and Agreement of Settlement (Settlement) in the above-docketed proceeding. Included in its filing was a request to shorten the period for filing initial and reply comments in response to the Settlement.

Because no protests were filed in this docket and the Commission Staff supports the Settlement, we are shortening the date for filing initial comments to and including December 22, 2008. Reply comments should be filed on or before December 29, 2008.

Kimberly D. Bose,
Secretary.

[FR Doc. E8-30616 Filed 12-23-08; 8:45 am]

BILLING CODE 6717-01-P